DEPARTMENT OF THE INTERIOR

National Park Service

[NPS-WASO-NAGPRA-NPS0027003; PPWOCRADN0-PCU00RP14.R50000]

Notice of Inventory Completion: Indiana State Museum and Historic Sites Corporation, State of Indiana, Indianapolis, IN

AGENCY: National Park Service, Interior.

ACTION: Notice.

SUMMARY: The Indiana State Museum and Historic Sites Corporation, State of Indiana (ISMHS) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the ISMHS. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the ISMHS at the address in this notice by January 22, 2019.

ADDRESSES: Michele Greenan, Indiana State Museum and Historic Sites Corporation, 650 West Washington Street, Indianapolis, IN 46214, telephone (317) 473-0836, email mgreenan@indianamuseum.org.

SUPPLEMENTARY INFORMATION: Notice is here given in accordance with the Native American Graves Protection and Repatriation Act (NAGPRA), 25 U.S.C. 3003, of the completion of an inventory of human remains under the control of the ISMHS, Indianapolis, IN. The human remains were removed from the southern shore of Hamilton Lake, Steuben County, IN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by staff at the University of Indianapolis, for the Indiana State Museum and Historic Sites Corporation. Following identification of the human remains as Native American, consultation proceeded with representatives of the Citizen Potawatomi Nation, Oklahoma; Delaware Nation, Oklahoma; Forest County Potawatomi Community, Wisconsin; Hannahville Indian Community, Michigan; Match-e-be-nash-she-wish Band of Pottawatomi Indians of Michigan; Miami Tribe of Oklahoma; Nottawaseppi Huron Band of the Potawatomi, Michigan (previously listed as the Huron Potawatomi, Inc.); and the Pokagon Band of Potawatomi Indians, Michigan and Indiana, hereafter referred to as “The Tribes.”

History and Description of the Remains

On August 16, 2014, human remains were observed by members of the public at the shoreline of Hamilton Lake, Steuben County, Indiana. The local police department was immediately contacted, and transported the human remains to the Angola Fire Department for assessment by the coroner. Following notice of the discovery to Indiana Conservation officers, scuba divers from S.C.U.R.R.T. and the Steuben County Sherriff's Department were dispatched to search for additional human remains; none were found. Indiana Conservation officers, in turn, contacted forensic specialists from the University of Indianapolis, who advised that the remains were human and possibly Native American.

As the human remains were not a part of a recent crime scene and following consultation with the Indiana Department of Historic Preservation and Archaeology, the human remains were transported by Indiana Conservation officers to the Indiana State Museum and Historic Sites (ISMHS) on August 18, 2014. Subsequently, staff from the University of Indianapolis further assessed the human remains, and identified them as Native American.

The human remains were inventoried, and an osteological analysis was conducted by staff at the University of Indianapolis. They identified the human remains, which consist of a portion of the skull, as belonging to a single adult female. Given the incomplete nature of the skeletal material little information was possible with regard to pathology, cause of death, or specific age.

Based on witness interviews conducted by Indiana Conservation officers, the human remains were found directly adjacent to areas frequented by recreational water implements and vehicles. As divers recovered no additional human remains, these human remains likely originated from a disturbed context elsewhere in the lake or adjacent areas. No other materials were recovered. No associated funerary objects are present.

Determinations Made by the Indiana State Museum and Historic Sites Corporation

Officials of the ISMHS have determined that:

• Pursuant to 25 U.S.C. 3001(9), the human remains described in this notice are Native American based on analysis of the physical remains and the archeological context.

• Pursuant to 25 U.S.C. 3001(9), the human remains described in this notice represent the physical remains of one individual of Native American ancestry.

• Pursuant to 25 U.S.C. 3001(2), a relationship of shared group identity cannot be reasonably traced between the Native American human remains and associated funerary object and any present-day Indian Tribe.

• According to final judgments of the Indian Claims Commission or the Court of Federal Claims, the land from which the Native American human remains were removed is the aboriginal land of the Citizen Potawatomi Nation, Oklahoma; Forest County Potawatomi Community, Wisconsin; Hannahville Indian Community, Michigan; Match-e-be-nash-she-wish Band of Pottawatomi Indians of Michigan; Miami Tribe of Oklahoma; Nottawaseppi Huron Band of the Potawatomi, Michigan (previously listed as the Huron Potawatomi, Inc.); and the Pokagon Band of Potawatomi Indians, Michigan and Indiana.

• Treaties, Acts of Congress, or Executive Orders, indicate that the land from which the Native American human remains and associated funerary objects were removed is the aboriginal land of the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as the Huron Potawatomi, Inc.); and the Pokagon Band of Potawatomi Indians, Michigan and Indiana.

• Other authoritative governmental sources identify the location where the human remains were removed as the aboriginal land of Citizen Potawatomi Nation, Oklahoma; Delaware Nation, Oklahoma; Forest County Potawatomi Community, Wisconsin; Hannahville Indian Community, Michigan; Match-e-be-nash-she-wish Band of Pottawatomi Indians of Michigan; Miami Tribe of Oklahoma; Nottawaseppi Huron Band of the Potawatomi, Michigan (previously listed as the Huron Potawatomi, Inc.); and the Pokagon Band of Potawatomi Indians, Michigan and Indiana.

• Pursuant to 43 CFR 10.11(c)(1), the disposition of the human remains may be to The Tribes.

Additional Requestors and Disposition

Representatives of any Indian Tribe or Native Hawaiian organization not identified in this notice that wish to request transfer of control of these human remains should submit a written request with information in support of the request to Michele Greenan, Indiana State Museum and Historic Sites, 650 West Washington Street, Indianapolis, IN 46214, telephone (317) 473-0836, email mgreenan@indianamuseum.org, by January 22, 2019. After that date, if no additional requestors have come forward, transfer of control of the human remains and associated funerary objects to The Tribes may proceed.

The ISMHS is responsible for notifying The Tribes that this notice has been published.

Dated: November 19, 2018.
Melanie O'Brien,
Manager, National NAGPRA Program.

[FR Doc. 2018-27706 Filed 12-20-18; 8:45 am]

BILLING CODE 4312-52-P